DEPARTMENT OF LABOR

Employment and Training Administration

[TA-W-57,273]

Bernhardt Furniture Company Upholstery Plant #5 Including On-Site Leased Workers of Able Body Temporary Service, Lenoir, NC; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on July 11, 2005, applicable to workers of Bernhardt Furniture Company, Upholstery Plant #5, including on-site leased workers of Able Body Temporary Service, Lenoir, North Carolina. The notice was published in the Federal Register on August 26, 2005 (70 FR 50412). The workers are engaged in the production of frames and frame components for upholstery manufacturing.

New information provided by the petitioners show their intention was to apply for all available Trade Act benefits at the time of the filing. Therefore, the Department has made a decision to investigate further to determine if the workers are eligible to apply for Alternative Trade Adjustment Assistance.

Information obtained from the company states that a significant number of workers of the subject firm are age 50 or over, workers have skills that are not easily transferable, and conditions in the industry are adverse.

Review of this information shows that all eligibility criteria under section 246 of the Trade Act of 1974 (26 U.S.C. 2813), as amended have been met for workers at the subject firm.

Accordingly, the Department is amending the certification to reflect its finding.

The amended notice applicable to TA-W-57,273 is hereby issued as follows:

All workers of Bernhardt Furniture Company, Upholstery Division, Plant #5, including on-site leased workers of Able Body Temporary Services, Lenoir, North Carolina, who became totally or partially separated from employment on or after May 25, 2004 through July 11, 2007, are eligible to apply for adjustment assistance under Section 223 of the Trade Act of 1974 and are also eligible to apply for Alternative Trade Adjustment Assistance under Section 246 of the Trade Act of 1974.

Signed at Washington, DC this 2nd day of June 2006.
Richard Church,
Certifying Officer, Division of Trade Adjustment Assistance.

[FR Doc. E6-9897 Filed 6-21-06; 8:45 am]

BILLING CODE 4510-30-P